DEPARTMENT OF COMMERCE

National Oceanic and Atmospheric Administration

[I.D. 021100E]

South Atlantic Fishery Management Council; Public Meeting

AGENCY: National Marine Fisheries Service (NMFS), National Oceanic and Atmospheric Administration (NOAA), Commerce.

ACTION: Notice of public meeting.

SUMMARY: The South Atlantic Fishery Management Council (Council) will hold meetings of its Golden Crab, Red Drum, Advisory Panel Selection (closed), Scientific and Statistical Selection (closed), Marine Reserves, Dolphin/Wahoo, Snapper Grouper, and Habitat and Environmental Protection Committees. An informal public meeting regarding marine reserves will be held. There will also be a Council Session.

DATES: The meeting will be held from March 6-10, 2000. See SUPPLEMENTARY INFORMATION for specific dates and times.

ADDRESSES: The meeting will be held at the Ocean Plaza Beach Resort, Oceanfront at 15th Street, Tybee Island, GA 31328; telephone: (1-800) 215-6370 or (912) 786-7777.

FOR FURTHER INFORMATION CONTACT: Kim Iverson, Public Information Officer; telephone: (843) 571-4366; fax: (843) 769-4520; email: kim.iverson@noaa.gov.

SUPPLEMENTARY INFORMATION:

Meeting Dates

March 6, 2000, 1:30-3:30 p.m.—Golden Crab Committee Meeting;

The Golden Crab Committee will review public hearing comments and consider emergency action to waive the 5,000 pound permit renewal requirement.

March 6, 2000, 3:30-5:30 p.m.—Red Drum Committee Meeting;

The Red Drum Committee will meet to hear a presentation on the southern portion of the Atlantic stock assessment, a summary of the red drum stock assessment group meeting and develop committee recommendations.

March 6, 2000, 6:00 p.m.—Informal Public Meeting;

The Georgia Coastal Resources Division asked the Council to hold an informal meeting on marine reserves. Individuals interested in discussing the use of marine reserves as a fisheries management tool will be given the opportunity to ask questions and express their views.

March 7, 2000, 8:30 a.m.-11:00 a.m.—Advisory Panel Selection Committee (Closed Meeting);

The Advisory Panel Selection Committee will review membership applications and develop recommendations.

March 7, 2000, 11:00 a.m.-12:00 noon—Scientific and Statistical Selection Committee Meeting;

The Scientific and Statistical Selection Committee will review membership resignations and develop recommendations for appointment of new members.

March 7, 2000, 1:30 p.m.-3:30 p.m.—Marine Reserves Committee Meeting;

The committee will review a status report on informal meetings and receive the informal meeting presentation, make recommendations on the public information document, discuss future informal meetings and make recommendation on the Gray Reef Memorandum of Understanding.

March 7, 2000, 3:30 p.m.-5:30 p.m.—Dolphin/Wahoo Committee Meeting;

The committee will hear a report on the joint South Atlantic, Caribbean and Gulf Committee meeting, the status of NMFS development of maximum sustainable yield (MSY) for dolphin and wahoo and take action on the fishery management plan (FMP) public hearing draft.

March 8, 2000, 8:30 a.m.-12:00 noon—Joint Shrimp Committee and Bycatch Reduction Device (BRD) Advisory Panel Meeting;

The committee and advisory panel will hear recommendations for BRD protocol from NMFS, review and recommend modification to BRD protocol if needed, discuss development of a rock shrimp limited access amendment and discuss other shrimp issues.

March 8, 2000, 1:30 p.m.-5:00 p.m.—Snapper Grouper Committee Meeting;

The committee will review SEIS comments and recommend action on Amendment 12 if needed, review the Snapper Grouper Assessment Group Report, develop recommended actions via framework where appropriate and develop recommendation for Wreckfish total allowable catch (TAC) and other framework actions as needed.

March 9, 2000, 8:30 a.m.-10:30 a.m.—Habitat and Environmental Protection Committee Meeting;

The committee will hear clarification of NMFS position on Sargassum FMP disapproval, review the NMFS' MSY recommendation and Endangered Species Section 7 Conservation recommendations, review options for the Sargassum FMP and hear an update on the Coral Reef Taskforce's activities.

March 9, 2000, 11:00 a.m.-5:00 p.m.—Council session;

From 11:00 a.m.-11:15 a.m., the Council will call the meeting to order, adopt the agenda and approve minutes from the Nov/Dec meeting.

From 11:15 a.m.-11:30 a.m., the Council will hear the Marine Reserves Committee report.

From 11:30 a.m.-11:45 a.m., the Council will hear the Dolphin/Wahoo Committee report.

From 11:45 a.m.-12:00 noon, the Council will hear the Red Drum Committee report.

Beginning at 1:30 p.m., public comment will be taken on (1) the Golden Crab emergency rule to waive the 5,000 pound permit renewal requirement; (2) action on the BRD protocol for the shrimp fishery; (3) any necessary modifications to Snapper Grouper Amendment 12 (Red Porgy), any framework actions necessary to meet the requirements of the Sustainable Fisheries Act and setting the wreckfish TAC or other wreckfish actions; (4) in addition, comment will be taken on the resubmission of the Sargassum FMP.

At 2:30 p.m. or immediately after public comment ends, Council will hear the Snapper Grouper Committee Report including any recommended revisions of Snapper Grouper Amendment 12 (if necessary), the establishment of the Wreckfish TAC and decisions on other appropriate framework actions.

From 3:30 p.m.-4:30 p.m., the Council will hear the Habitat Committee report and make a decision on the Sargassum FMP.

From 4:30 p.m.-5:00 p.m., the Council will hear the Shrimp Committee report and make a decision on the BRD protocol.

From 5:00 p.m.-5:30 p.m., the Council will hear the Golden Crab Committee report and decide on the emergency rule request to waive the 5,000 pound permit renewal requirement.

March 10, 2000, 8:30 a.m.-12 noon; Council Session;

The Council will hear the Advisory Panel Selection Committee report and appoint advisory panel members (Closed Session); hear the Scientific and Statistical Selection Committee report and appoint new members (Closed Session); hear a briefing on Economic Impact Assessment Guidelines; a briefing on Social Impact Assessment Guidelines; an update on the Atlantic Coastal Cooperative Statistics Program and a report on the status of national policy on vessel monitoring systems. The Council will also receive status reports from NMFS on the 1999/2000 Mackerel Framework, Mackerel Amendment 9 final rule, Comprehensive Habitat Amendment final rule, response to South Atlantic Fishery Management Council operations plan requested work, and landings for Atlantic king mackerel, Gulf king mackerel (eastern zone), Atlantic Spanish mackerel, snowy grouper and golden tilefish, wreckfish, greater amberjack and South Atlantic octocorals. The Council will hear agency and liaison reports and discuss other business and upcoming meetings.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to the Council office (see ADDRESSES) by February 25, 2000.

Dated: February 15, 2000.
Bruce C. Morehead,
Acting Director, Office of Sustainable Fisheries, National Marine Fisheries Service.

[FR Doc. 00-3927 Filed 2-17-00; 8:45 am]

BILLING CODE 3510-22-F